INTERNATIONAL TRADE COMMISSION

[USITC SE-16-024]

Sunshine Act Meeting

AGENCY: United States International Trade Commission.

TIME AND DATE: July 12, 2016 at 9:30 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. No. 731-TA-298 (Fourth Review) (Porcelain-on-Steel Cooking Ware from China). The Commission is currently scheduled to complete and file its determination and views of the Commission on July 22, 2016.

5. Outstanding action jackets: None.

In accordance with Commission policy, subject matter listed above, not disposed of at the scheduled meeting, may be carried over to the agenda of the following meeting.

By order of the Commission.
Issued: July 5, 2016.
William R. Bishop,
Supervisory Hearings and Information Officer.

[FR Doc. 2016-16296 Filed 7-6-16; 11:15 am]

BILLING CODE 7020-02-P